DEPARTMENT OF COMMERCE

Foreign-Trade Zones Board

[B-55-2012]

Foreign-Trade Zone 8—Toledo, OH; Authorization of Production Activity; Whirlpool Corporation (Washing Machines); Clyde and Green Springs, OH

On July 20, 2012 the Toledo-Lucas County Port Authority, grantee of FTZ 8, submitted a notification of proposed production activity to the Foreign-Trade Zones (FTZ) Board on behalf of Whirlpool Corporation, within Subzone 8I, in Clyde and Green Springs, Ohio.

The notification was processed in accordance with the regulations of the FTZ Board (15 CFR part 400), including notice in the Federal Register inviting public comment (77 FR 46024, 8/2/2012). The FTZ Board has determined that no further review of the activity is warranted at this time. The production activity described in the notification is authorized, subject to the FTZ Act and the Board's regulations, including Section 400.14.

Dated: November 19, 2012.
Andrew McGilvray,
Executive Secretary.

[FR Doc. 2012-28479 Filed 11-21-12; 8:45 am]

BILLING CODE P